DEPARTMENT OF TRANSPORTATION

Federal Aviation Administration

14 CFR Part 97

[Docket No. 30624; Amdt. No. 3284]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 11, 2008. The compliance date for each SIAP, associated Takeoff Minimums, and ODP is specified in the amendatory provisions.

The incorporation by reference of certain publications listed in the regulations is approved by the Director of the Federal Register as of September 11, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC on August 22, 2008.
James J. Ballough,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 25 Sep 2008

Los Angeles, CA, Los Angeles Intl, ILS OR LOC RWY 24L, Amdt 25

Los Angeles, CA, Los Angeles Intl, ILS OR LOC RWY 24R; ILS RWY 24R (CAT II); ILS RWY 24R (CAT III), Amdt 24

Los Angeles, CA, Los Angeles Intl, ILS OR LOC RWY 25L; ILS RWY 25L (CAT II); ILS RWY 25L (CAT III), Amdt 11

Los Angeles, CA, Los Angeles Intl, ILS OR LOC RWY 25R, Amdt 16

Los Angeles, CA, Los Angeles Intl, RNAV (GPS) Y RWY 24L, Amdt 1

Los Angeles, CA, Los Angeles Intl, RNAV (GPS) Y RWY 24R, Amdt 1

Los Angeles, CA, Los Angeles Intl, RNAV (GPS) Y RWY 25L, Amdt 2

Los Angeles, CA, Los Angeles Intl, RNAV (GPS) Y RWY 25R, Amdt 1

Los Angeles, CA, Los Angeles Intl, RNAV (GPS) Z RWY 25L, Orig

Los Angeles, CA, Los Angeles Intl, RNAV (RNP) Z RWY 25R, Orig

Madera, CA, Madera Muni, GPS RWY 30, Amdt 1, CANCELLED

Madera, CA, Madera Muni, RNAV (GPS) RWY 12, Orig

Madera, CA, Madera Muni, RNAV (GPS) RWY 30, Orig

Modesto, CA, Modesto City-CO-Harry Sham Fld, GPS RWY 28R, Orig-B, CANCELLED

Modesto, CA, Modesto City-CO-Harry Sham Fld, RNAV (GPS) RWY 28R, Orig

Modesto, CA, Modesto City-CO-Harry Sham Fld, Takeoff Minimums and Obstacle DP, Amdt 5

Red Bluff, CA, Red Bluff Muni, GPS RWY 15, Orig, CANCELLED

Red Bluff, CA, Red Bluff Muni, GPS RWY 33, Orig, CANCELLED

Red Bluff, CA, Red Bluff Muni, RNAV (GPS) RWY 15, Orig

Red Bluff, CA, Red Bluff Muni, RNAV (GPS) RWY 33, Orig

Red Bluff, CA, Red Bluff Muni, VOR RWY 33, Amdt 8

Red Bluff, CA, Red Bluff Muni, VOR/DME RWY 15, Amdt 7

De Kalb, IL, De Kalb Taylor Muni, ILS OR LOC RWY 2, Orig

De Kalb, IL, De Kalb Taylor Muni, LOC/DME RWY 2, Amdt 1, CANCELLED

De Kalb, IL, De Kalb Taylor Muni, RNAV (GPS) RWY 2, Orig

De Kalb, IL, De Kalb Taylor Muni, RNAV (GPS) RWY 9, Amdt 1

De Kalb, IL, De Kalb Taylor Muni, RNAV (GPS) RWY 20, Orig

De Kalb, IL, De Kalb Taylor Muni, RNAV (GPS) RWY 27, Amdt 1

De Kalb, IL, De Kalb Taylor Muni, VOR/DME OR GPS RWY 27, Amdt 5C, CANCELLED

Indianapolis, IN, Indianapolis Executive, ILS OR LOC RWY 36, Amdt 5

Indianapolis, IN, Indianapolis Intl, RNAV (RNP) Z RWY 14, Orig-A

Colby, KS, Shalz Field, RNAV (GPS) RWY 17, Amdt 1

Colby, KS, Shalz Field, RNAV (GPS) RWY 35, Amdt 1

Colby, KS, Shalz Field, Takeoff Minimums and Obstacle DP, Orig

Georgetown, KY, Georgetown Scott Co-Marshall Fld, RNAV (GPS) RWY 3, Amdt 1

Georgetown, KY, Georgetown Scott Co-Marshall Fld, RNAV (GPS) RWY 21, Amdt 1

Bastrop, LA, Morehouse Memorial, RNAV (GPS) RWY 16, Amdt 1

Bastrop, LA, Morehouse Memorial, RNAV (GPS) RWY 34, Orig

Galliano, LA, South Lafourche Leonard Miller Jr, RNAV (GPS) RWY 18, Amdt 1

Galliano, LA, South Lafourche Leonard Miller Jr, RNAV (GPS) RWY 36, Orig

Galliano, LA, South Lafourche Leonard Miller Jr, Takeoff Minimums and Obstacle DP, Orig

Boston, MA, Gen Edward Lawrence Logan Intl, ILS OR LOC RWY 33L, Amdt 3

Baltimore, MD, Baltimore-Washington Intl Thurgood Marshall, ILS OR LOC RWY 10, ILS RWY 10 (CAT II), ILS RWY 10 (CAT III), Amdt 19

Baltimore, MD, Baltimore-Washington Intl Thurgood Marshall, ILS OR LOC RWY 15L, Amdt 1

Baltimore, MD, Baltimore-Washington Intl Thurgood Marshall, ILS OR LOC RWY 28, Amdt 16

Baltimore, MD, Baltimore-Washington Intl Thurgood Marshall, ILS OR LOC RWY 33L, Amdt 10

Baltimore, MD, Baltimore-Washington Intl Thurgood Marshall, ILS OR LOC RWY 33R, Amdt 1

Baltimore, MD, Baltimore-Washington Intl Thurgood Marshall, RNAV (GPS) RWY 15L, Amdt 1

Baltimore, MD, Baltimore-Washington Intl Thurgood Marshall, RNAV (GPS) RWY 22, Amdt 1

Baltimore, MD, Baltimore-Washington Intl Thurgood Marshall, RNAV (GPS) RWY 33R, Amdt 1

Baltimore, MD, Baltimore-Washington Intl Thurgood Marshall, RNAV (GPS) Y RWY 10, Amdt 1

Baltimore, MD, Baltimore-Washington Intl Thurgood Marshall, RNAV (GPS) Y RWY 15R, Amdt 1

Baltimore, MD, Baltimore-Washington Intl Thurgood Marshall, RNAV (GPS) Y RWY 28, Amdt 1

Baltimore, MD, Baltimore-Washington Intl Thurgood Marshall, RNAV (GPS) Y RWY 33L, Amdt 1

Baltimore, MD, Baltimore-Washington Intl Thurgood Marshall, RNAV (GPS) Z RWY 15R, Orig-A, CANCELLED

Baltimore, MD, Baltimore-Washington Intl Thurgood Marshall, RNAV (GPS) Z RWY 28, Orig-A, CANCELLED

Baltimore, MD, Baltimore-Washington Intl Thurgood Marshall, RNAV (RNP) Z RWY 10, Orig

Baltimore, MD, Baltimore-Washington Intl Thurgood Marshall, RNAV (RNP) Z RWY 15R, Orig

Baltimore, MD, Baltimore-Washington Intl Thurgood Marshall, RNAV (RNP) Z RWY 28, Orig

Detroit, MI, Detroit Metropolitan Wayne County, ILS OR LOC RWY 3R, ILS RWY 3R (CAT II), ILS RWY 3R (CAT III), Amdt 15

Detroit, MI, Detroit Metropolitan Wayne County, ILS OR LOC RWY 4R, ILS RWY 4R (CAT II), ILS RWY 4R (CAT III), Amdt 16

Detroit, MI, Detroit Metropolitan Wayne County, ILS OR LOC RWY 21L, Amdt 10

Detroit, MI, Detroit Metropolitan Wayne County, ILS OR LOC RWY 22L, Amdt 29

Detroit, MI, Detroit Metropolitan Wayne County, ILS OR LOC Z RWY 4L, ILS Z RWY 4L (CAT II), ILS Z RWY 4L (CAT III), Amdt 3

Detroit, MI, Detroit Metropolitan Wayne County, ILS OR LOC Z RWY 22R, Amdt 2

Detroit, MI, Detroit Metropolitan Wayne County, RNAV (GPS) RWY 3R, Amdt 1

Detroit, MI, Detroit Metropolitan Wayne County, RNAV (GPS) RWY 4L, Amdt 2

Detroit, MI, Detroit Metropolitan Wayne County, RNAV (GPS) RWY 4R, Amdt 1

Detroit, MI, Detroit Metropolitan Wayne County, RNAV (GPS) RWY 21L, Amdt 2

Detroit, MI, Detroit Metropolitan Wayne County, RNAV (GPS) RWY 22L, Amdt 1

Detroit, MI, Detroit Metropolitan Wayne County, RNAV (GPS) RWY 22R, Amdt 1

Detroit, MI, Detroit Metropolitan Wayne County, RNAV (GPS) Y RWY 3R, Orig, CANCELLED

Detroit, MI, Detroit Metropolitan Wayne County, RNAV (GPS) Y RWY 4R, Orig, CANCELLED

Motley, MN, Morey's, NDB OR GPS RWY 9, Amdt 1A, CANCELLED

Caruthersville, MO, Caruthersville Memorial, RNAV (GPS) RWY 18, Amdt 1

Caruthersville, MO, Caruthersville Memorial, RNAV (GPS) RWY 36, Amdt 1

Kansas City, MO, Kansas City Intl, ILS OR LOC RWY 1L, Amdt 13

Kansas City, MO, Kansas City Intl, ILS OR LOC RWY 1R, ILS RWY 1R (CAT II), ILS RWY 1R (CAT III), Amdt 3

Kansas City, MO, Kansas City Intl, ILS OR LOC RWY 9, Amdt 13

Kansas City, MO, Kansas City Intl, ILS OR LOC RWY 19L, Amdt 1

Kansas City, MO, Kansas City Intl, ILS OR LOC RWY 19R, ILS RWY 19R (CAT II), ILS RWY 19R (CAT III), Amdt 10

Kansas City, MO, Kansas City Intl, ILS OR LOC RWY 27, Amdt 2

Kansas City, MO, Kansas City Intl, RNAV (GPS) Y RWY 1L, Amdt 1

Kansas City, MO, Kansas City Intl, RNAV (GPS) Y RWY 1R, Amdt 1

Kansas City, MO, Kansas City Intl, RNAV (GPS) Y RWY 9, Amdt 1

Kansas City, MO, Kansas City Intl, RNAV (GPS) Y RWY 19L, Amdt 1

Kansas City, MO, Kansas City Intl, RNAV (GPS) Y RWY 19R, Amdt 1

Kansas City, MO, Kansas City Intl, RNAV (GPS) Y RWY 27, Amdt 1

Kansas City, MO, Kansas City Intl, RNAV (GPS) Z RWY 9, Orig, CANCELLED

Kansas City, MO, Kansas City Intl, RNAV (RNP) Z RWY 1L, Orig

Kansas City, MO, Kansas City Intl, RNAV (RNP) Z RWY 1R, Orig

Kansas City, MO, Kansas City Intl, RNAV (RNP) Z RWY 9, Orig

Kansas City, MO, Kansas City Intl, RNAV (RNP) Z RWY 19L, Orig

Kansas City, MO, Kansas City Intl, RNAV (RNP) Z RWY 19R, Orig

Kansas City, MO, Kansas City Intl, RNAV (RNP) Z RWY 27, Orig

Mosby, MO, Midwest National Air Center, RNAV (GPS) RWY 36, Amdt 2

Clarksdale, MS, Fletcher Field, Takeoff Minimums and Obstacle DP, Orig

Picayune, MS, Picayune Muni, Takeoff Minimums and Obstacle DP, Orig

Albion, NE, Albion Muni, NDB RWY 33, Amdt 2

Albion, NE, Albion Muni, RNAV (GPS) RWY 15, Amdt 1

Albion, NE, Albion Muni, RNAV (GPS) RWY 33, Amdt 1

Albion, NE, Albion Muni, Takeoff Minimums and Obstacle DP, Amdt 1

Aurora, NE, Aurora Muni-Al Potter Field, GPS RWY 34, Orig, CANCELLED

Aurora, NE, Aurora Muni-Al Potter Field, RNAV (GPS) RWY 16, Amdt 1

Aurora, NE, Aurora Muni-Al Potter Field, RNAV (GPS) RWY 34, Orig

Aurora, NE, Aurora Muni-Al Potter Field, Takeoff Minimums and Obstacle DP, Orig

Gordon, NE, Gordon Muni, RNAV (GPS) RWY 4, Amdt 1

Gordon, NE, Gordon Muni, RNAV (GPS) RWY 22, Amdt 1

Omaha, NE, Eppley Airfield, ILS OR LOC/DME RWY 18, Amdt 8

Omaha, NE, Eppley Airfield, RNAV (GPS) RWY 18, Amdt 2

Millbrook, NY, Sky Acres, RNAV (GPS) RWY 17, Amdt 1

New York, NY, John F. Kennedy Intl, RNAV (GPS) X RWY 31L, Amdt 1A

New York, NY, John F. Kennedy Intl, RNAV (GPS) Y RWY 4L, Amdt 1A

New York, NY, John F. Kennedy Intl, RNAV (GPS) Y RWY 4R, Amdt 1A

New York, NY, John F. Kennedy Intl, RNAV (GPS) Y RWY 22L, Amdt 1A

New York, NY, John F. Kennedy Intl, RNAV (GPS) Y RWY 31L, Amdt 1A

New York, NY, John F. Kennedy Intl, RNAV (GPS) Y RWY 31R, Amdt 1A

New York, NY, John F. Kennedy Intl, RNAV (RNP) Z RWY 4L, Orig

New York, NY, John F. Kennedy Intl, RNAV (RNP) Z RWY 4R, Orig

New York, NY, John F. Kennedy Intl, RNAV (RNP) Z RWY 22L, Orig

New York, NY, John F. Kennedy Intl, RNAV (RNP) Z RWY 31L, Orig

New York, NY, John F. Kennedy Intl, RNAV (RNP) Z RWY 31R, Orig

Oneonta, NY, Oneonta Muni, LOC RWY 24, Amdt 2

Oneonta, NY, Oneonta Muni, RNAV (GPS) RWY 6, Orig

Oneonta, NY, Oneonta Muni, RNAV (GPS) RWY 24, Orig

Oneonta, NY, Oneonta Muni, VOR RWY 6, Amdt 4B

Elk City, OK, Elk City Rgnl Business, NDB RWY 17, Amdt 5, CANCELLED

Elk City, OK, Elk City Rgnl Business, RNAV (GPS) RWY 17, Amdt 1

Elk City, OK, Elk City Rgnl Business, RNAV (GPS) RWY 35, Amdt 1

McMinnville, OR, McMinnville Muni, ILS OR LOC RWY 22, Amdt 4

McMinnville, OR, McMinnville Muni, NDB OR GPS RWY 22, Amdt 2, CANCELLED

McMinnville, OR, McMinnville Muni, RNAV (GPS) RWY 4, Orig

McMinnville, OR, McMinnville Muni, RNAV (GPS) RWY 22, Orig

Pittsburgh, PA, Pittsburgh Intl, CONVERGING ILS RWY 28R, Amdt 3A, CANCELLED

Pittsburgh, PA, Pittsburgh Intl, CONVERGING ILS RWY 32, Amdt 4A, CANCELLED

Pittsburgh, PA, Pittsburgh Intl, ILS OR LOC RWY 32, Amdt 12

Pittsburgh, PA, Pittsburgh Intl, RNAV (GPS) Y RWY 10C, Amdt 4

Pittsburgh, PA, Pittsburgh Intl, RNAV (GPS) Y RWY 10R, Amdt 3A

Pittsburgh, PA, Pittsburgh Intl, RNAV (GPS) Y RWY 28C, Amdt 4

Pittsburgh, PA, Pittsburgh Intl, RNAV (GPS) Y RWY 28L, Amdt 4A

Pittsburgh, PA, Pittsburgh Intl, RNAV (GPS) Y RWY 28R, Amdt 4A

Pittsburgh, PA, Pittsburgh Intl, RNAV (GPS) Y RWY 32, Amdt 4

Pittsburgh, PA, Pittsburgh Intl, RNAV (RNP) Z RWY 10C, Orig

Pittsburgh, PA, Pittsburgh Intl, RNAV (RNP) Z RWY 10R, Orig

Pittsburgh, PA, Pittsburgh Intl, RNAV (RNP) Z RWY 28C, Orig

Pittsburgh, PA, Pittsburgh Intl, RNAV (RNP) Z RWY 28L, Orig

Pittsburgh, PA, Pittsburgh Intl, RNAV (RNP) Z RWY 28R, Orig

Pittsburgh, PA, Pittsburgh Intl, RNAV (RNP) Z RWY 32, Orig

Pittsburgh, PA, Pittsburgh Intl, VOR/DME RWY 14, Amdt 2A, CANCELLED

Lafayette, TN, Lafayette Muni, GPS RWY 19, Orig, CANCELLED

Springfield, TN, Springfield Robertson County, LOC RWY 4, Amdt 2

Brady, TX, Curtis Field, RNAV (GPS) RWY 17, Amdt 1

Brady, TX, Curtis Field, RNAV (GPS) RWY 35, Amdt 1

Eagle Pass, TX, Maverick County Memorial Intl, RNAV (GPS) RWY 31, Orig

Eagle Pass, TX, Maverick County Memorial Intl, Takeoff Minimums and Obstacle DP, Orig

Fort Worth, TX, Bourland Field, GPS RWY 17, Orig-A, CANCELLED

Fort Worth, TX, Bourland Field, GPS RWY 35, Orig-A, CANCELLED

Fort Worth, TX, Bourland Field, RNAV (GPS) RWY 17, Orig

Fort Worth, TX, Bourland Field, RNAV (GPS) RWY 35, Orig

Greenville, TX, Majors, ILS OR LOC RWY 17, Amdt 7

Greenville, TX, Majors, LOC BC RWY 35, Amdt 1B

Greenville, TX, Majors, RNAV (GPS) RWY 17, Amdt 1

Greenville, TX, Majors, RNAV (GPS) RWY 35, Amdt 1

Greenville, TX, Majors, Takeoff Minimums and Obstacle DP, Amdt 1

Laredo, TX, Laredo Intl, RNAV (GPS) RWY 35L, Amdt 1

Mesquite, TX, Mesquite Metro, LOC BC RWY 35, Amdt 3

Mesquite, TX, Mesquite Metro, RNAV (GPS) RWY 17, Amdt 1

Mesquite, TX, Mesquite Metro, RNAV (GPS) RWY 35, Amdt 1

Plains, TX, Yoakum County, Takeoff Minimums and Obstacle DP, Orig

San Antonio, TX, San Antonio Intl, ILS OR LOC RWY 12R, ILS RWY 12R (CAT II), Amdt 14

San Antonio, TX, San Antonio Intl, ILS OR LOC RWY 30L, Amdt 10

San Antonio, TX, San Antonio Intl, RNAV (GPS) RWY 12R, Amdt 1

San Antonio, TX, San Antonio Intl, RNAV (GPS) RWY 30L, Amdt 1

Burlington/Mount Vernon, WA, Skagit Rgnl, GPS RWY 28, Orig-A, CANCELLED

Burlington/Mount Vernon, WA, Skagit Rgnl, RNAV (GPS) RWY 28, Orig

La Crosse, WI, La Crosse Muni, RNAV (GPS) RWY 3, Orig

La Crosse, WI, La Crosse Muni, RNAV (GPS) RWY 13, Orig

La Crosse, WI, La Crosse Muni, RNAV (GPS) RWY 18, Orig

La Crosse, WI, La Crosse Muni, RNAV (GPS) RWY 21, Orig

La Crosse, WI, La Crosse Muni, RNAV (GPS) RWY 31, Orig

La Crosse, WI, La Crosse Muni, RNAV (GPS) RWY 36, Orig

La Crosse, WI, La Crosse Muni, Takeoff Minimums and Obstacle DP, Amdt 5

On August 7, 2008 (73 FR 45860) the FAA published an Amendment in Docket No. 30620, Amdt. No. 3280 to Part 97 of the Federal Aviation Regulations under section 97.25 effective September 25, 2008. The following is rescinded in its entirety:

Galbraith Lake, AK, Galbraith Lake, Takeoff Minimums and Obstacle DP, Orig

On July 22, 2008 (73 FR 42520) the FAA published an Amendment in Docket No. 30618, Amdt No. 3278 to Part 97 of the Federal Aviation Regulations under section 97.33 effective September 25, 2008. The following are rescinded in their entirety:

Huntsville, AL, Huntsville Intl-Carl T Jones Fld, RNAV (GPS) Y RWY 18L, Orig, CANCELLED

Huntsville, AL, Huntsville Intl-Carl T Jones Fld, RNAV (GPS) Y RWY 36L, Orig, CANCELLED

Huntsville, AL, Huntsville Intl-Carl T Jones Fld, RNAV (GPS) Y RWY 36R, Orig, CANCELLED

[FR Doc. E8-20427 Filed 9-10-08; 8:45 am]

BILLING CODE 4910-13-P